DEPARTMENT OF COMMERCE

Foreign-Trade Zones Board

[B-45-2018]

Foreign-Trade Zone (FTZ) 70—Detroit, Michigan; Notification of Proposed Production Activity; Brose New Boston, Inc. (Passenger Vehicle and SUV Subassemblies); New Boston, Michigan

Brose New Boston, Inc. (Brose) submitted a notification of proposed production activity to the FTZ Board for its facility in New Boston, Michigan. The notification conforming to the requirements of the regulations of the FTZ Board (15 CFR 400.22) was received on July 6, 2018.

The Brose facility is located within Subzone 70X. The facility will be used for the production of passenger vehicle and sport utility vehicle (SUV) subassemblies. Pursuant to 15 CFR 400.14(b), FTZ activity would be limited to the specific foreign-status materials and components and specific finished products described in the submitted notification (as described below) and subsequently authorized by the FTZ Board.

Production under FTZ procedures could exempt Brose from customs duty payments on the foreign-status components used in export production. On its domestic sales, for the foreign-status materials/components noted below, Brose would be able to choose the duty rates during customs entry procedures that apply to seat frames, motor vehicle seat adjusters, automobile door modules, lift gate spindles, hands-free lift gate access modules, and cooling fan modules (duty rate ranges from duty-free to 4.4%). Brose would be able to avoid duty on foreign-status components which become scrap/waste. Customs duties also could possibly be deferred or reduced on foreign-status production equipment.

The components and materials sourced from abroad include: Automotive grease/lubricant; thermal transfer film; plastic tubes; plastic hoses; self-adhesive plastic sheets in rolls; vehicle door plastic handles; plastic mountings; plastic brackets; decals; plastic spacers; plastic seals; rubber o-rings; rubber seals; rubber gaskets; rubber spacers; rubber end stops; rubber caps; blank self-adhesive labels; steel self-tapping screws; screws, bolts, and nut assemblies; steel nuts; steel torsion spring washers and lock washers; steel washers, steel spacers; steel rivets; steel cotters and cotter pins; steel pins; helical steel springs; steel springs; steel cable drum wire; steel metal clips/clamps; motor vehicle locks; base metal mountings; steel brackets; metal mountings for seats; steel tubular rivets; fan impellers, shrouds, and frames; steel bearing balls; transmission shafts; plain shaft bearings; gear boxes, gears, and gearing to adjust vehicle seats; grooved pulleys; gearing housings; motors to lift/tilt vehicle seats (electric DC motors, universal AC/DC motors, DC motors, and multi-phase AC motors); DC generators; electrical lighting or signaling equipment; loudspeakers; anti-pinch sensors; proximity sensors/switches; electronic control modules; coaxial cables; automotive wiring harnesses; vehicle bumper carrier plates; door carrier plates; mechanical cables for motor vehicles; seat pans; coated cross tubes; side panels; slider assemblies; seat frames; black ink ribbons; and, colored ink ribbons (duty rate ranges from duty-free to 8.5%).

Public comment is invited from interested parties. Submissions shall be addressed to the Board's Executive Secretary at the address below. The closing period for their receipt is August 27, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Juanita Chen at juanita.chen@trade.gov or 202-482-1378.

Dated: July 12, 2018.
Elizabeth Whiteman,
Acting Executive Secretary.

[FR Doc. 2018-15328 Filed 7-17-18; 8:45 am]

BILLING CODE 3510-DS-P